DEPARTMENT OF DEFENSE

Office of the Secretary

Threat Reduction Advisory Committee; Meeting

AGENCY: Department of Defense, Office of the Under Secretary of Defense (Acquisition, Technology, and Logistics).

ACTION: Notice of advisory committee meeting.

SUMMARY: The Threat Reduction Advisory Committee will meet in closed session on Thursday April 5, 2001, at the Pentagon.

The mission of the Committee is to advise the Under Secretary of Defense (Acquisition, Technology, and Logistics) on technology security, counterproliferation, chemical and biological defense, sustainment of the nuclear weapons stockpile, and other matters related to the Defense Threat Reduction Agency's mission.

In accordance with section 10(d) of the Federal Advisory Committee Act, Public Law 92-463, as amended (5 U.S.C. Appendix II, (1994)), it has been determined that this Committee meeting concerns matters listed in 5 U.S.C. 552b(c)(1) (1994), and that accordingly the meeting will be closed to the public.

DATE: Thursday April 5, 2001, (8 a.m. to 6 p.m.).

ADDRESS: Room 3E869, The Pentagon, Washington, DC 20301.

FOR FURTHER INFORMATION CONTACT: Colonel Rick Baker, Defense Threat Reduction Agency/AST, 8725 John J. Kingman Road MS 6201, Fort Belvoir, VA 22060-6201. Phone: (703) 767-4759.

Dated: February 13, 2001.
L.M. Bynum,
OSD Federal Register Liaison Officer, Department of Defense.

[FR Doc. 01-4046 Filed 2-16-01; 8:45 am]

BILLING CODE 5001-10-M